DEPARTMENT OF LABOR

Employment and Training Administration

American Recovery and Reinvestment Act (ARRA); Notice of Availability of Funds and Solicitation for Grant Applications for State Energy Sector Partnership (SESP) and Training Grants

Announcement Type: Notice of Solicitation for Grant Applications.

Funding Opportunity Number: SGA/DFA PY-08-20.

Catalog of Federal Domestic Assistance (CFDA) Number: 17.275.

DATES: The closing date for receipt of applications under this announcement is October 20, 2009. Applications must be received at the address below no later than 4 p.m. (Eastern Time). A pre-recorded Webinar will be available online at: http://www.workforce3one.org and accessible for viewing by 3 p.m. ET on July 10, 2009, and will be available for viewing any time after that date as well. While a review of this webinar is encouraged, it is not mandatory.

ADDRESSES: Mailed applications must be addressed to the U.S. Department of Labor, Employment & Training Administration, Division of Federal Assistance, Attention: B. Jai Johnson, Grant Officer, Reference SGA/DFA PY-08-20, 200 Constitution Avenue, NW., Room N4716, Washington, DC 20210. For complete “Application and Submission Information,” please refer to section IV.

SUMMARY: Under the American Recovery and Reinvestment Act of 2009 (the Recovery Act), the U.S. Department of Labor (DOL or the Department) Employment and Training Administration (ETA) announces the availability of approximately $190 million in grant funds to State Workforce Investment Boards of the 50 States, the District of Columbia, and the U.S. territories as defined in section VI.B.2.iv. In order to highlight the important role States play in building a national green economy, the Department is investing in workforce sector strategies that target energy efficiency and renewable energy industries described in section 171(e)(1)(B) of the Workforce Investment Act of 1998 (WIA) and other green industries. DOL encourages a strategic planning process that aligns the Governor's overall workforce vision, State energy policies, and local and regional training activities that lead to employment in targeted industry sectors. This strategic planning process is an opportunity to develop a statewide energy sector strategy through a comprehensive partnership and development of a Sector Plan. If an energy sector strategy is currently in place, that strategy should be reviewed and evaluated to address the requirements of this funding opportunity. As a result of this Solicitation for Grant Application (SGA), the Department is fostering the development of a national workforce that is ready to meet the demands of the energy efficiency and renewable energy industries and other industries identified in Supplementary Information, section B of this SGA.

A portion of the funds under this SGA will be reserved for communities or regions undergoing auto industry related restructurings. The eligible applicants for this SGA are State Workforce Investment Boards in partnership with their State Workforce Agency, local Workforce Investment Boards or regional consortia of Boards, and One Stop Career Center delivery systems. ETA intends to fund grants ranging from approximately $2 to $6 million.

SUPPLEMENTARY INFORMATION:

A. Recovery Act: Competitive Grants for Green Job Training

This section of the SGA provides general background on the American Recovery and Reinvestment Act of 2009 (Recovery Act), the competitive grants funded through the Recovery Act to prepare workers for careers in the energy efficiency and renewable energy industries, and the occupations and industries on which these grants should focus. On February 17, 2009, President Barack Obama signed into law the Recovery Act through which Congress intended to preserve and create jobs, promote the nation's economic recovery, and assist those most impacted by the recession. Among other funding directed toward the Department the Recovery Act provides $750 million for a program of competitive grants for worker training and placement in high growth and emerging industries. Of the $750 million allotted for competitive grants, the Recovery Act designates approximately $500 million for research, labor exchange and job training for projects that prepare workers for careers in energy efficiency and renewable energy as described in section 171(e)(1)(B) of the Workforce Investment Act (WIA). DOL intends to use a portion of the $500 million for providing technical assistance for this program of grants.

The purpose of these green job training grants is to teach workers the skills required in emerging energy efficiency and renewable energy industries. These efforts will lead program participants to job placement while leveraging other Recovery Act investments intended to create jobs and promote economic growth. For additional information about the series of competitive grants for green job training, please refer to Training and Employment Notice (TEN) 44-08 available at http://www.doleta.gov/Recovery/legislation.cfm.

B. Green Industries and Occupations

The Department will award grants to workforce development projects that focus on connecting target populations, including auto and auto-related industry workers affected by significant automotive-related restructurings, to career pathways in green industries. Training programs will prepare individuals for careers in any of the seven energy efficiency and renewable energy industries defined in section 171(e)(1)(B)(ii) of the WIA, which include:

• The energy-efficient building, construction, and retrofit industries;

• The renewable electric power industry;

• The energy efficient and advanced drive train vehicle industry;

• The biofuels industry;

• The deconstruction and materials use industries;

• The energy efficiency assessment industry serving residential, commercial, or industrial sectors; and

• Manufacturers that produce sustainable products using environmentally sustainable processes and materials.

Additionally, the Department is interested in applicants contributing to our understanding of green industries and jobs that clean and enhance our environment. Initial research supported by the Department of Labor shows that there are “growth, enhanced and emerging” green occupations across a number of industries. In addition to the seven industries referenced above, applicants may propose strategies that train for those green occupations from among the following industries: Transportation; green construction; environmental protection; sustainable agriculture including healthy food production; forestry; and recycling and waste reduction (see Occupational Information Network Report at: http://www.onetcenter.org/reports/Green.html). The Department will consider proposals that focus on these occupations within these industries if applicants can offer supporting data demonstrating these are emerging industries which are producing jobs in their communities.

For the purpose of these SGAs, the Department defines energy efficiency and renewable energy as follows. Section 203(b)(2) of the Energy Policy Act of 2005, Public Law 109-58, 119 Stat. 595, defines “renewable energy” as “electric energy generated from solar, wind, biomass, landfill gas, ocean (including tidal, wave, current, and thermal), geothermal, municipal solid waste, or new hydroelectric generation capacity achieved from increased efficiency or additions of new capacity at an existing hydroelectric project.” “Energy efficiency” can be broadly defined as programs aimed at mitigating the use of energy, reducing harmful emissions, and decreasing overall energy consumption.

The Department of Labor's Bureau of Labor Statistics (BLS) is working to develop a definition for green sectors and jobs, which will be used to ensure that workforce development efforts identify and target these green jobs and their training needs. The Department has also supported occupational research that begins to define green jobs, review sectors impacted by green investments and understand how new green technology and materials will affect occupational requirements. The Occupational Information Network (O*NET) project has drafted a research paper titled, Greening of the World of Work: Implications for O*NET-SOC and New and Emerging Occupations. This study reflects three general categories of occupations, based on different consequences of green economy activities and technologies: (1) Existing occupations expected to experience primarily an increase in employment demand; (2) existing occupations with significant change to the work and worker requirements; and (3) new and emerging green occupations. This research may be used as a starting point for identifying green industries and occupations and informing the development of training and job placement programs. For a copy of the O*NET report and a listing of the identified occupations go to http://www.onetcenter.org/reports/Green.html

C. Working With Other Recovery Act Programs

The Recovery Act made funds available to a number of other Federal programs that will impact the creation and expansion of green jobs. DOL is partnering with other Federal agencies to support the creation of jobs by developing a pipeline of skilled workers in the energy efficiency and renewable energy industries. Where possible, ETA encourages applicants to connect their workforce development strategies to other Recovery Act funded projects that create jobs or impact the skill requirements of existing jobs. ETA recommends that applicants review other parts of the Recovery Act, with a focus on the activities funded through the Department of Energy (Energy), the Environmental Protection Agency (EPA), the Department of Housing and Urban Development (HUD), the Department of Transportation (DOT), the Department of Education (Education) and others. For additional resources and information about our Federal partners, please see section VIII, “Additional Resources of Interest to Applicants.”

I. Funding Opportunity Description

Grant funds awarded under this SGA will be used to provide training, job placement, and related activities that reflect a comprehensive statewide energy sector strategy including the Governor's overall workforce vision, State energy policies, and training activities that lead to employment in targeted industry sectors. A sector strategy is a workforce development approach that targets the needs of a specific industry sector. According to The Aspen Institute's Workforce Strategies Initiative, the primary purpose of a sector strategy is to provide an integrated system of education, training, and supportive services that promotes skill attainment and career pathway development for workers. Sector strategies are designed and implemented by a range of institutions and groups working collaboratively, including community and faith-based organizations, business and industry groups, educational institutions such as community and technical colleges, the public workforce system, labor-management partnerships, and others.

Many sector initiatives provide strategies for improving the employability and career pathway development for low-income, low-skilled workers, but sector strategies can also benefit other populations, such as incumbent workers in need of skill upgrades, or laid-off workers who need to develop sector-specific skills. Some strategies focus on just one target industry in a specific geographical region, while others encompass several related industries. The end result of a sector strategy is a stronger labor market system that benefits workers and employers for years to come. Additional information about sector strategies can be accessed at http://www.aspenwsi.org/WSIsector-index.asp. In recent years, a number of States and their local Workforce Investment Boards and One Stop Career Center delivery systems have successfully implemented a variety of sectoral approaches that examine labor market trends, develop an understanding of specific industry sector workforce needs, and promote training that responds to those immediate employer needs within the identified sectors.

A. Preparing To Apply for This Solicitation: Strategic Planning Process, Roles of the State Workforce Investment Board, and Formation of the State Energy Sector Partnership

The Department strongly encourages applicants to engage in a comprehensive strategic planning process prior to submitting an application for this SGA. If the State has completed a similar strategic planning process including the development of a sector plan related to the targeted industries outlined in this SGA, that process should be reviewed and evaluated to ensure it meets the requirements of this funding opportunity. If the State has not engaged in a comprehensive strategic planning process, then this work will serve as the foundation for the technical proposal for the SGA. If awarded, all applicants will be expected to fully implement the local and regional training projects outlined in the Sector Plan that was submitted as part of their application. Applicants should be aware they may not charge any strategic planning or other pre-award activities to the grant.

1. Strategic Planning Process

A Sector Plan should be developed using an inclusive process designed by the State Workforce Investment Board as the grant recipient. DOL expects State Workforce Agencies, local WIBs or regional consortia of WIBs and One Stop Career Center delivery systems, as well as required and suggested partners to have a strong voice and integral role in the strategic planning process.

In order to effectively engage in planning and fulfill the requirements of this SGA, DOL suggests that the strategic planning sessions encompass the following:

i. Review and analyze the Governor's overall workforce vision and goals, energy policy and, if available, specific policies for energy efficiency and renewable energy industries;

ii. Establish the State strategic vision and goals for preparing an educated and skilled workforce to meet the current and emerging needs of the energy efficiency and renewable energy industries, and aligning those efforts with overall workforce development, education, and economic development;

iii. Analyze and determine the sectors where investments are or will be made and the occupations and skill needs within the energy efficiency and renewable energy industries that will be targeted;

iv. Analyze and determine the populations that will be targeted, the characteristics of those populations that have specific workforce challenges or could benefit from specific sector strategies, and training activities that address the needs and demands of those targeted sectors and target populations; and

v. Develop an energy sector strategy for training workers in the energy efficiency and renewable energy industries, and propose training activities that lead to employment in targeted industry sectors. The strategy should include delivery of training services through local and regional project teams, led by local WIBs or regional consortia of Boards and their One Stop Career Center delivery systems, along with appropriate partners that will deliver training. This includes a plan for how funds will be distributed to those project teams that aligns with the State's vision and strategies.

2. Roles of the State Workforce Investment Board (SWIB or the Board)

If awarded a grant, the SWIB will (1) lead the State Energy Sector Partnership and serve as the project operator responsible for coordinating and managing this Partnership, and (2) manage the overall planning, implementation, oversight, and technical assistance of the State Energy Sector Plan operations, which also includes managing the local and regional project teams. While performing this role, the Board ensures that the work of the State Energy Sector Partnership is aligned with the Governor's vision and relevant national and State energy policies, as well as the Workforce Investment Act/Wagner-Peyser Act State Plan. It is expected the Board will establish a process to regularly coordinate with the local and regional project teams to ensure timely implementation, address program and/or fiscal challenges, meet technical assistance needs, and ensure the project teams are meeting their performance outcomes and deliverables.

3. Formation of a State Energy Sector Partnership (SESP)

The SESP will serve as a steering committee throughout the life of the grant to inform the planning and implementation of the State's energy sector strategy and ensure the overall success of the grant.

i. SESP Membership. The SWIB will determine and coordinate membership of the SESP, which will reflect the State's targeted industries as referenced in Supplementary Information, section B of this SGA. State Workforce Investment Boards may already have existing relationships with the required partners and suggested partners mentioned below through their Board representation and should invite those individuals to serve on the SESP, as appropriate. To be able to effectively develop and implement industry training strategies across the State, individuals serving on the SESP should be senior level and have decision-making authority over their organization's activities and resources. In forming the SESP, the State Workforce Investment Board is encouraged to continue strengthening and expanding their existing partnerships, as well as identify and address any gaps among the required and suggested partner organizations outlined below.

Applicants must assemble a comprehensive and representative partnership reflecting the energy efficiency and renewable energy industries within the State. The SESP is made up of representatives from the State Workforce Agency, local WIBs or regional consortia of WIBs and One Stop Career Center delivery systems, and at least one representative from each of the following required categories:

• State Cabinet officials from agencies (e.g., State Energy Office) receiving Recovery Act funding related to relevant energy efficiency and renewable energy resources and other green occupations and industries in the State;

• Representatives from the energy efficiency and renewable energy business and industries, such as public, private, or non-profit employers;

• Labor organizations, including labor-management training programs.

The SESP is encouraged to include additional members from each of the following categories:

• State Apprenticeship Agencies (SAAs) or the USDOL Office of Apprenticeship (OA) in states where OA is the registration agency for registered apprenticeship programs;

• Nonprofit organizations including community and faith-based organizations;

• The education and training community, which includes the continuum of education at all levels from secondary schools to community and technical colleges, four-year colleges and universities, apprenticeship programs, technical and vocational training institutions, and other training entities;

• State and Local veterans' agencies and local veterans service organizations; and

• Economic Development organizations.

By including all of these types of categories in a robust partnership, applicants will ensure they are maximizing the expertise of each organization.

ii. Activities of the State Energy Sector Partnership (SESP). There are two primary activities for SESP members: (1) Strategic planning and development of a Sector Plan, including selecting local and regional project teams, which the applicant will describe in the technical proposal and (2) oversight of the implementation and successful operation of the State Energy Sector Plan. The Board may choose to expand the roles of the SESP beyond these two activities to enhance the operations of the local and regional project teams.

iii. Roles of the Local and Regional Project Teams. The SESP will select local WIBs or regional consortia of WIBs and their One Stop Career Center delivery systems, and other partners, as appropriate to serve as project teams. The purpose of these teams is to identify, assess, and refer candidates for training, and connect and place workers with employers that have existing job openings. Each project team is expected to identify appropriate training providers that have the capacity to begin training expeditiously upon award and effectively train a substantial number of participants. In addition, each project team must identify a lead staff member, or co-leads to ensure coordination and strategic problem solving among the training providers to best meet participant long/short term employment and training needs. Project Team leads or co-leads should have experience in successfully operating a variety of grant programs on a small and large scale.

Local and regional project teams are strongly encouraged to develop and/or strengthen relationships with the various partner organizations referenced above (“State Energy Sector Partnership (SESP) Membership”) in their local and regional areas as appropriate, in order to effectively support these activities. Local and regional project teams funded through this SGA must implement comprehensive projects that include: (a) Robust recruitment strategies; (b) seamless integration of supportive service strategies where necessary to help the targeted individuals succeed; (c) use of the One Stop Career Center delivery system to provide case management; (d) high-quality training that leads to a degree or certificate, as appropriate. Training should use methods such as on-the-job training blended with classroom training, customized training with an existing registered apprenticeship program or labor-management partnership, technology-based learning, or other appropriate training strategies. In addition, training courses should be offered at alternate times (such as evening and weekend programs) and in locations that are most convenient and accessible to participants; and (e) follow-up and retention services, providing individuals the resources necessary to attain economic self-sufficiency.

II. Award Information

A. Award Amount

Approximately $190 million is available under this competitive SGA. The expected range of awards is $2 to $6 million. Applications requesting more than $6 million will be considered nonresponsive. Within these funding ranges specified above, applicants are encouraged to submit proposals for quality projects at whatever funding level is appropriate to the project.

Approximately $25 million of the total funds available through this SGA will be reserved for projects in communities impacted by automotive-related restructuring, though the Department reserves the right to change this amount depending on the quantity and quality of applications submitted under this SGA. See Attachment I for a list of counties impacted by automotive-related restructuring. The Center for Automotive Research identified the attached list of 281 U.S. counties that have either an automotive assembly plant or parts manufacturer employing regional residents.

B. Period of Performance

The period of grant performance will be up to 36 months from the date of execution of the grant document and it includes participant follow-up. The Department expects grant funded activities to commence upon grant award. Applicants should plan to fully expend grant funds during the period of performance, while ensuring full transparency and accountability for all expenditures.

III. Eligibility Information

A. Eligible Applicants and Required Partnerships

Eligible applicants are limited to State Workforce Investment Boards and only one application may be submitted per State. For the purposes of this SGA, the term “State” means each of the 50 States of the United States, the District of Columbia, and the U.S. territories as defined in Section VI.B.2.iv. In order to be eligible, SWIBs must demonstrate they are in partnership with the State Workforce Agency, local Workforce Investment Boards or regional consortia of Boards, and One Stop Career Center delivery systems. If the SWIB does not have the capacity to serve as the fiscal agent, the State Workforce Agency must be designated as the fiscal agent for the grant and should be designated as the applicant on the SF 424 Grant Application.

B. Cost Sharing

Cost sharing or matching funds are not required as a condition for application, but leveraged resources are strongly encouraged and may affect the applicant's score in section V.A.2 of the evaluation criteria.

C. Proposed Projects

The purpose of this SGA is to fund training projects that will prepare and place individuals into any of the seven energy efficiency and renewable energy industries as referenced in Supplementary Information, section B of this SGA. Training costs that are directly related to the provision of training for participants may include the following: Faculty/instructors, including salaries and fringe benefits; in-house training staff; support staff such as lab or teaching assistants; classroom space, including laboratories, mock-ups or other facilities used for training purposes; classroom-supported internship programs; and books, materials, and supplies used in the training course, including specialized equipment.

Applicants are not limited in the specific training and placement strategies and activities they may utilize. However, all activities must lead to placement in employment and must: (a) Teach skills and competencies demanded by the targeted sector(s); and (b) support participants' long term career growth along a defined career pathway such as an articulated career ladder and/or lattice, if such a pathway exists in the targeted sector. The degree or certificate awarded to participants should be based on the type of training provided through the grant and the requirements of the targeted occupation, and should be selected based on consultations with industry partners (see section VI.2.i.)

Some grants funded under this SGA may produce tangible deliverables, such as curriculum, training modules, and outreach materials. Applicants proposing the development of curriculum must provide a detailed description that outlines the specific curriculum that will be developed, and articulates the need to develop a new curriculum, as opposed to using or adapting existing curricula.

D. Other Grant Specifications

1. Participants Eligible to Receive Training

Projects must give priority for training and other services provided through the grant to the following target populations.

i. Workers impacted by national energy and environmental policy;

ii. Individuals in need of updated training related to the energy efficiency and renewable energy industries;

iii. Veterans, or past and present members of reserve components of the Armed Forces;

iv. Unemployed individuals;

v. Individuals, including at-risk youth, seeking employment pathways out of poverty and into economic self-sufficiency; and

vi. Individuals with a criminal record

Other individuals, such as untapped labor pools and entry-level and incumbent workers that do not fit into the categories above, may also be served through these projects. For specific definitions of these target populations, applicants must refer to section VI.B of this SGA.

2. Veterans Priority

The Jobs for Veterans Act (Pub. L. 107-288) provides priority of service to veterans and spouses of certain veterans for the receipt of employment, training, and placement services in any job training program directly funded, in whole or in part, by DOL. Grantees are required to provide priority of services for veterans and eligible spouses pursuant to 20 CFR part 1010, the regulations implementing priority of service for veterans and eligible spouses in Department of Labor job training programs under the Jobs for Veterans Act published at 73 FR 78132 on December 19, 2008. In circumstances where a grant recipient must choose between two equally qualified candidates for training, one of whom is a veteran, the Jobs for Veterans Act requires that grant recipients give the veteran priority of service by admitting him or her into the program. Please note that to obtain priority of service a veteran must meet the program's eligibility requirements. Grantees must comply with DOL guidance on veterans' priority. Currently, ETA Training and Employment Guidance Letter (TEGL) No. 05-03 (September 16, 2003) provides general guidance on the scope of the Job for Veterans Act and its effect on current employment and training programs. TEGL No. 05-03, along with additional guidance, is available at the “Jobs for Veterans Priority of Service” Web site: http://www.doleta.gov/programs/vets.

3. Grantee Training.

Participation is required in all ETA training activities related to orientation, financial management and reporting, performance reporting, product dissemination, and other technical assistance training as appropriate during the life of the grant. These trainings may occur via conference call, webinar, and in-person meetings. For budgeting purposes, grant recipients are expected to allocate adequate staff time and travel resources to ensure participation in two, two-day in-person events.

IV. Application and Submission Information

A. How To Obtain an Application Package

This SGA contains all of the information and links to forms needed to apply for grant funding.

B. Content and Form of Application Submission

The proposal will consist of three separate and distinct parts—(I) a cost proposal, (II) a technical proposal, and (III) attachments to the technical proposal (III). Applications that fail to adhere to the instructions in this section will be considered non-responsive and will not be considered. Please note that it is the applicant's responsibility to ensure that the funding amount requested is consistent across all parts and sub-parts of the application.

Part I. The Cost Proposal. The Cost Proposal must include the following four items:

• The Standard Form (SF) 424, “Application for Federal Assistance” (available at http://www07.grants.gov/agencies/forms_repository_information.jsp and http://www.doleta.gov/grants/find_grants.cfm). The SF 424 must clearly identify the applicant and be signed by an individual with authority to enter into a grant agreement. Upon confirmation of an award, the individual signing the SF 424 on behalf of the applicant shall be considered the authorized representative of the applicant.

• Applicants must supply their D-U-N-S® Number on the SF 424. All applicants for Federal grant and funding opportunities are required to have a Data Universal Numbering System (D-U-N-S® Number). See Office of Management and Budget (OMB) Notice of Final Policy Issuance, 68 FR 38402, Jun. 27, 2003. The D-U-N-S® Number is a non-indicative, nine-digit number assigned to each business location in the D&B database having a unique, separate, and distinct operation, and is maintained solely by D-U-N-S® Number. The D-U-N-S® Number is used by industries and organizations around the world as a global standard for business identification and tracking. If you do not have a D-U-N-S® Number, you can get one for free through the SBS site: http://smallbusiness.dnb.com/webapp/wcs/stores/servlet/Glossary?fLink=glossary&footerflag=y&storeId=10001&indicator=7.

• The SF 424A Budget Information Form (available at http://www07.grants.gov/agencies/forms_repository_information.jsp and http://www.doleta.gov/grants/find_grants.cfm). In preparing the Budget Information Form, the applicant must provide a concise narrative explanation to support the request, explained in detail below.

• Budget Narrative: The budget narrative must provide a description of costs associated with each line item on the SF-424A. It should also include leveraged resources provided to support grant activities. In addition, the applicant should address precisely how the administrative costs support the project goals. The entire Federal grant amount requested should be included on both the SF 424 and SF 424A (not just one year). No leveraged resources should be shown on the SF 424 and SF 424A. Please note that applicants that fail to provide a SF 424, SF 424A, a D-U-N-S® Number, and a budget narrative will be removed from consideration prior to the technical review process.

• Applicants are also encouraged, but not required, to submit OMB Survey N. 1890-0014: Survey on Ensuring Equal Opportunity for Applicants, which can be found under the Gramts.gov, Tips and Resources From Grantors, Department of Labor section at http://www07.grants.gov/applicants/tips_resources_from_grantors.jsp#13 (also referred to as Faith Based EEO Survey PDF Form).

Part II. The Technical Proposal. Under the leadership of the State Workforce Investment Board, the SESP will develop a comprehensive Sector Plan that will serve as the technical proposal in response to this Solicitation. The Sector Plan will present the State's overall strategy for preparing workers in the energy efficiency and renewable energy industries and consists of four parts: (1) Statement of Need; (2) State Energy Sector Partnership; (3) Strategy and Work Plan; and (4) Implementation Timeline and Projected Outcomes. Applicants will be evaluated on the completeness and quality of their submissions. A full description of the criteria that will be used to evaluate each submission and points awarded are outlined in section V. A.

The Technical Proposal is limited to 30 double-spaced single-sided pages with 12 point text font and 1 inch margins. A required 1-2-page Implementation Timeline counts against this 30-page limit. Any materials beyond the 30-page limit will not be read. Applicants should number the Technical Proposal beginning with page number 1. Applicants that do not provide Part II, the Technical Proposal of the application will be removed from consideration prior to the technical review process.

Part III. Attachments to the Technical Proposal. The following are required attachments that are in addition to the 30-page Technical Proposal. Each attachment should be labeled accordingly and specify the content and number of pages. The applicant must submit:

• A Charter, not to exceed 5 pages, that includes the purpose, goals, and key functions of the SESP to be performed throughout the life of the grant. The Charter must be signed by each member and include their name, title, and organization;

• List of all local and regional project teams (name, title, organization and specific training activities) not to exceed 5 pages; and

• An Abstract, not to exceed three pages, summarizing the proposed project including applicant name; project title; funding level; areas to be served including whether the area is an urban, suburban, or rural area; and a brief synopsis of the Sector Plan. The synopsis should include targeted industries outlined in SUPPLEMENTARY INFORMATION, section B of this SGA; workforce and industry need(s) that will be addressed; proposed training activities; priority populations to be served; and projected training and placement outcomes. The abstract must also indicate whether one or more of the counties served by the proposed project appear on the attached list of counties impacted by automotive-related restructuring, which is included as Attachment I of this SGA. The applicant should indicate the total amount of grant funds that will be used for activities in those counties.

Please note that the Department will not accept or review letters of support or commitment. Applicants should be aware that the required Charter referenced above represents the partners' commitment to the proposed project.

Applications may be submitted electronically on Grants.gov or in hardcopy via mail or hand delivery. These processes are described in further detail in section IV. C. Applicants submitting proposals in hard copy must submit an original signed application (including the SF 424) and one (1) “copy-ready” version free of bindings, staples or protruding tabs to ease the reproduction of the proposal by DOL. Applicants submitting proposals in hard copy are also required to provide an identical electronic copy of the proposal on compact disc (CD).

C. Submission Process, Date, Times, and Addresses

The closing date for receipt of applications under this announcement is October 20, 2009. Applications must be received at the address below no later than 4 p.m. (Eastern Time). Applications sent by e-mail, telegram, or facsimile (FAX) will not be accepted. Applications that do not meet the conditions set forth in this notice will not be honored. No exceptions to the mailing and delivery requirements set forth in this notice will be granted. Mailed applications must be addressed to the U.S. Department of Labor, Employment and Training Administration, Division of Federal Assistance, Attention: B. Jai Johnson, Grant Officer, Reference SGA/DFA, PY 08-20, 200 Constitution Avenue, NW., Room N4716, Washington, DC 20210. Applicants are advised that mail delivery in the Washington area may be delayed due to mail decontamination procedures. Hand-delivered proposals will be received at the above address. All professional overnight delivery service will be considered to be hand-delivered and must be received at the designated place by the specified closing date and time.

Applicants may apply online through Grants.gov (http://www.grants.gov); however due to the expected increase in system activity resulting from the Recovery Act applicants are encouraged to use an alternate method to submit grant applications during this heightened period of demand. While not mandatory, DOL encourages the submission of applications through professional overnight delivery service.

Applications that are submitted through Grants.gov must be successfully submitted at http://www.grants.gov no later than 4 p.m. (Eastern Time) on October 20, 2009, and then subsequently validated by Grants.gov. The submission and validation process is described in more detail below. The process can be complicated and time-consuming. Applicants are strongly advised to initiate the process as soon as possible and to plan for time to resolve technical problems if necessary.

It is strongly recommended that before the applicant begins to write the proposal, applicants should immediately initiate and complete the “Get Registered” registration steps at http://www.grants.gov/applicants/get_registered.jsp. These steps may take multiple days or weeks to complete, and this time should be factored into plans for electronic submission in order to avoid unexpected delays that could result in the rejection of an application. It is highly recommended that applicants use the “Organization Registration Checklist” at http://www.grants.gov/assets/Organization_Steps_Complete_Registration.pdf to ensure the registration process is complete.

Within two business days of application submission, Grants.gov will send the applicant two e-mail messages to provide the status of application progress through the system. The first e-mail, almost immediate, will confirm receipt of the application by Grants.gov. The second e-mail will indicate the application has either been successfully validated or has been rejected due to errors. Only applications that have been successfully submitted and successfully validated will be considered. It is the sole responsibility of the applicant to ensure a timely submission; therefore sufficient time should be allotted for submission (two business days); and, if applicable, subsequent time to address errors and receive validation upon resubmission (an additional two business days for each ensuing submission). It is important to note that if sufficient time is not allotted and a rejection notice is received after the due date and time, the application will not be considered.

To ensure consideration, the components of the application must be saved as either .doc, .xls or .pdf files. If submitted in any other format, the applicant bears the risk that compatibility or other issues will prevent our ability to consider the application. ETA will attempt to open the document but will not take any additional measures in the event of issues with opening. In such cases, the non-conforming application will not be considered for funding.

Applicants are strongly advised to utilize the tools and documents, including FAQs, available on the “Applicant Resources” page at http://www.grants.gov/applicants/app_help_reso.jsp#faqs. To receive updated information about critical issues, new tips for users and other time sensitive updates as information is available, applicants may subscribe to Grants.gov Updates at: http://www.grants.gov/applicants/email_subscription_signup.jsp.

If applicants encounter a problem with Grants.gov and do not find an answer in any of the other resources, call 1-800-518-4726 to speak to a Customer Support Representative or e-mail support@grants.gov.

Late Applications: For applications submitted on Grants.gov, only applications that have been successfully submitted no later 4 p.m. (Eastern Time) on the closing date and successfully validated will be considered.

Any application received after the exact date and time specified for receipt at the office designated in this notice will not be considered, unless it is received before awards are made, it was properly addressed, and it was: (a) sent by U.S. Postal Service mail, postmarked not later than the fifth calendar day before the date specified for receipt of applications (e.g., an application required to be received by the 20th of the month must be postmarked by the 15th of that month); or (b) sent by professional overnight delivery service to the addressee not later than one working day prior to the date specified for receipt of applications. Applicants take a significant risk by waiting to the last day to submit by grants.gov. “Postmarked” means a printed, stamped or otherwise placed impression (exclusive of a postage meter machine impression) that is readily identifiable, without further action, as having been supplied or affixed on the date of mailing by an employee of the U.S. Postal Service. Therefore, applicants should request the postal clerk to place a legible hand cancellation “bull's eye” postmark on both the receipt and the package. Failure to adhere to the above instructions will be a basis for a determination of non-responsiveness. Evidence of timely submission by a professional overnight delivery service must be demonstrated by equally reliable evidence created by the professional overnight delivery service provider indicating the time and place of receipt.

D. Intergovernmental Review

This funding opportunity is not subject to Executive Order 12372, “Intergovernmental Review of Federal Programs.”

E. Funding Restrictions

Determinations of allowable costs will be made in accordance with the applicable Federal cost principles. Disallowed costs are those charges to a grant that the grantor agency or its representative determines not to be allowed in accordance with the applicable Federal cost principles or other conditions contained in the grant. Successful and unsuccessful applicants will not be entitled to reimbursement of pre-award costs.

1. Indirect Costs

As specified in OMB Circular Cost Principles, indirect costs are those that have been incurred for common or joint objectives and cannot be readily identified with a particular final cost objective. In order to use grant funds for indirect costs incurred, the applicant must obtain an Indirect Cost Rate Agreement with its Federal cognizant agency either before or shortly after grant award. State agencies should already have such agreements in place.

2. Administrative Costs

Under this SGA, an entity that receives a grant to carry out a project or program may not use more than 10 percent of the amount of the grant to pay administrative costs associated with the program or project. Administrative costs could be direct or indirect costs, and are defined at 20 CFR 667.220. Administrative costs do not need to be identified separately from program costs on the SF 424A Budget Information Form. They should be discussed in the budget narrative and tracked through the grantee's accounting system. To claim any administrative costs that are also indirect costs, the applicant must obtain an Indirect Cost Rate agreement from its Federal cognizant agency.

3. Use of Funds for Supportive Services

Supportive services for adults and workers impacted by national energy and environmental policy are defined at WIA sections 101(46) and 134(e)(2) and (3). They include services such as transportation, child care, dependent care, housing, and needs-related payments that are necessary to enable an individual to participate in training activities funded through this grant. Grantees may only use grant funds to provide these services to individuals who are participating in training services provided through the grant, that are unable to obtain services through other programs providing such services, and when such services are necessary to enable individuals to participate in these training activities. Grantees should ensure that their use of grant funds on supportive services is consistent with their established written policy regarding the provision of supportive services. Grantees may use no more than 5% of their grant funds on these services.

Applicants should be aware that certain WIA formula funds provided through the Recovery Act can be used for supportive services and successful applicants should seek to serve eligible participants through these sources.

4. Salary and Bonus Limitations

Under Public Law 109-234 and Public Law 111-8, Section 111, none of the funds appropriated in Public Law 111-5 or prior Acts under the heading “Employment and Training” that are available for expenditure on or after June 15, 2006, shall be used by a recipient or sub-recipient of such funds to pay the salary and bonuses of an individual, either as direct costs or indirect costs, at a rate in excess of Executive Level II. These limitations also apply to grants funded under this SGA. The salary and bonus limitation does not apply to vendors providing goods and services as defined in OMB Circular A-133. See Training and Employment Guidance Letter number 5-06 for further clarification: http://wdr.doleta.gov/directives/corr_doc.cfm?DOCN=2262.

5. Intellectual Property Rights

The Federal Government reserves a paid-up, nonexclusive and irrevocable license to reproduce, publish or otherwise use, and to authorize others to use for Federal purposes: (i) The copyright in all products developed under the grant, including a subgrant or contract under the grant or subgrant; and (ii) any rights of copyright to which the grantee, subgrantee or a contractor purchases ownership under an award (including but not limited to curricula, training models, technical assistance products, and any related materials). Such uses include, but are not limited to, the right to modify and distribute such products worldwide by any means, electronically or otherwise. Federal funds may not be used to pay any royalty or licensing fee associated with such copyrighted material, although they may be used to pay costs for obtaining a copy which are limited to the developer/seller costs of copying and shipping. If revenues are generated through selling products developed with grant funds, including intellectual property, these revenues are program income. Program income is added to the grant and must be expended for allowable grant activities.

If applicable, the following statement must be included on all products developed in whole or in part with grant funds:

“This workforce solution was funded by a grant awarded by the U.S. Department of Labor's Employment and Training Administration. The solution was created by the grantee and does not necessarily reflect the official position of the U.S. Department of Labor. The Department of Labor makes no guarantees, warranties, or assurances of any kind, express or implied, with respect to such information, including any information on linked sites and including, but not limited to, accuracy of the information or its completeness, timeliness, usefulness, adequacy, continued availability, or ownership. This solution is copyrighted by the institution that created it. Internal use by an organization and/or personal use by an individual for non-commercial purposes is permissible. All other uses require the prior authorization of the copyright owner.”

F. Use of Funds for Wage Subsidies

Grant funds awarded through this SGA shall not be used to subsidize the wages of program participants.

G. Other Submission Requirements

Withdrawal of Applications: Applications may be withdrawn by written notice at any time before an award is made.

V. Application Review Information Criteria

Criterion | Points
Sector Plan (Technical Proposal)
Statement of Need | 15
State Energy Sector Partnership | 15
Strategy and Project Work Plan | 45
Implementation Timeline and Projected Outcomes | 20
Suitability for Evaluation | 5
Total Points | 100

A. Evaluation Criteria

Applicants will be evaluated on the completeness and quality of their submissions. A total of 100 points may be achieved in accordance with the criteria articulated below. This section identifies and describes the specific criteria and points that will be used to evaluate proposals submitted under this SGA.

There are four parts to the technical proposal: (1) Statement of Need, (2) State Energy Sector Partnership, (3) Strategy and Work Plan, and (4) Implementation Timeline and Projected Outcomes. Applicants are expected to reference the State's strategic planning process throughout the entire proposal, where applicable.

1. Statement of Need (15 Points)

Applicants must fully demonstrate a clear and specific need for the Federal investment in the proposed activities. It is critical throughout this section that applicants are as explicit and specific as possible in citing sources of data and analysis. Applicants should use all relevant data from a wide variety of traditional resources (e.g. BLS reports and State surveys) and non-traditional information sources including consultation with industry associations, or tracking private sector and government infrastructure investments, building permits, job postings, and business hiring trends. Points for this section will be based on the relevance, completeness, and quality of data and analysis upon which the Strategy and Project Work Plan are crafted, as follows:

i. Description of the State's existing energy policy, any specific policies for the creation of jobs in the energy efficiency and renewable energy industries, the Workforce Investment Act/Wagner-Peyser Act State Plans, and data and analysis of the needs of the State as it relates to the current economy and projected trends in the energy efficiency and renewable energy industries and other industries identified in Supplementary Information, section B of this SGA. (5 points)

ii. Data and analysis of the current and projected employment opportunities by occupation in the energy efficiency and renewable energy industries and other industries as identified in this SGA and identification of the job skills necessary to obtain those employment opportunities. This could include changes and shifts in the energy efficiency and renewable energy industries impacting workers, including any potential or actual layoffs. Specific employers that need or will need skilled workers should be identified if they are employers likely to be hiring within the grant period of performance. (5 points)

iii. Demonstrate how the skills and competencies gained through training activities apply to the industries outlined in this SGA and how participants will put these new skills to work. (3 points)

iv. Data and analysis of the characteristics of the State's labor force, including information on demographics, education, skill levels, workforce challenges, and laying out skill gaps currently existing and those projected for the pipeline of future workers in the key industry focus areas. (2 points)

2. State Energy Sector Partnership (15 Points)

The SESP serves as a steering committee throughout the life of the grant to participate in the planning and support the implementation of the State's energy sector strategy and ensure the overall success of the grant. Points for this section will be based on required and suggested partner representation and participation in the SESP.

i. Applicants must fully demonstrate they have assembled a comprehensive and representative partnership reflecting the energy efficiency and renewable energy industries within the State. The SESP membership must include the State Workforce Agency, local WIBs or regional consortia of Boards and One Stop Career Center delivery systems, as well as all required and suggested partners referenced in section I.B.1.a. (5 points)

ii. Applicants must fully describe the level of participation of each SESP member in the strategic planning and development of a Sector Plan, including selecting local and regional project teams. Applicants must also describe the roles and responsibilities of each required and suggested SESP members as referenced in section I.A.3 in contributing to the oversight of the implementation and successful operation of the Sector Plan. In addition, a Charter establishing the SESP, its purpose, goals, and key functions is a required attachment to the technical proposal and must be signed by each member and include their name, title, and organization. (5 points)

iii. Applicants should clearly and fully describe any funds and other resources that will be leveraged to support grant activities and how these funds and other resources will be used to contribute to the projected outcomes for the project, including any leveraged resources related to the provision of supportive services for program participants. This includes funds and other resources leveraged from businesses, labor organizations, education and training providers, and/or Federal, state, and local government programs. Applicants will be scored based on the extent to which they fully demonstrate the amount of leveraged resources provided, the type(s) of leveraged resources provided, the strength of commitment to provide these resources, the breadth and depth of the resources provided, and how well these resources support the proposed grant activities. (5 points)

3. Strategy and Project Work Plan (45 Points).

Applicants must present the State's overall energy sector strategy for preparing workers in the targeted industries identified in Supplementary Information, section B of this SGA. ETA is interested in applicants describing any evidence-based research that they considered in designing the strategy. Points for this section will be based on the comprehensiveness of description and degree of clarity of the following factors:

i. Comprehensive description of the State's energy sector strategy for training workers in the energy efficiency and renewable energy industries including the number of jobs available, targeted industry sector focus areas, and proposed training activities. Applicants should fully discuss the relationship between the proposed training activities and the State's existing energy sector policies, Workforce Investment Act/Wagner-Peyser Act State Plan, and data and analysis presented in the Statement of Need. (10 points)

ii. Description of priority populations to be served, the potential challenges to effectively serving these populations, and how these challenges will be resolved. If possible, the applicant should include an analysis of the skills possessed by the target population which are transferable to the key sector focus areas and occupations, the estimated skills gap between populations to be served and the needs of the key sector focus areas. (10 points)

iii. Description of local and regional project teams and the rationale for selection of those teams. The following information must be presented for each local or regional project team. (20 points)

• Geographic area of each local and regional partnership team.

• The relevant qualifications and experience of the lead staff member or co-leads from each local workforce investment board(s) project team that will be responsible for the coordination and strategic problem solving among training providers and project team partners. Applicants also must include relevant qualifications and experience for each lead staff member or co-leads from each local workforce investment board(s).

• Project team partners and their roles.

• Recruitment: The applicant must provide a comprehensive outreach and recruitment strategy that defines a clear process for finding and referring workers to the training programs. The applicant must clearly identify the populations that will be targeted by the project, and explain how the proposed strategy will enable the project to effectively recruit those populations.

• Training: DOL encourages applicants to base their training strategies on program models that have shown promising outcomes for serving disadvantaged populations. The applicant must provide a detailed explanation of the proposed training activities that describes how the project will comprehensively address the training needs of the targeted populations, including a discussion of how the design of the training activities will account for the current skill level, age, or level of work experience of the targeted populations. The applicant must also fully describe how the project will address barriers to employment by combining training services with supportive services, such as child care or transportation, as appropriate for each targeted population. The applicant must fully demonstrate that the project will focus on the specific industries and occupations it has proposed to target and focuses on skills and competencies demanded by the selected industries and occupations; and the project will integrate basic skills training where appropriate, and lead to an appropriate industry-recognized degree or certificate (if such a degree or certificate exists) and employment. Where there is no standardized industry-recognized degree or certificate in place, applicants should provide evidence that such a degree or certificate does not exist and the search they conducted for the degree or certificate. Applicants that provide this evidence will not lose points in the evaluation process.

In addition, the training strategy should include information about new curricula, or other materials to be developed. If existing curricula will be used, applicants should provide available information that demonstrates positive employment outcomes for those previously trained on this curricula. The strategy must also provide information about case management services and supportive service delivery, such as who will provide these services and how these services will be funded (e.g., through grant funds or leveraged resources), provided to participants during training.

• Placement: The applicant must provide a clear strategy for placing individuals into employment. The applicant should describe the methods for engaging employers, identifying specific job needs, and referring participants to employers. Wherever possible, the applicant should identify specific employers that indicate plans to hire project participants that complete training.

• Retention: The applicant must provide a clear, comprehensive strategy for job retention. This should include strategies for engaging employers, as well as for identifying the barriers to retention that participants face after placement and for providing them with supportive services to address these barriers.

iii. Strong evidence that the applicant has the fiscal, administrative, and performance management capacity to effectively administer this grant. The applicant must fully describe its capacity to lead and manage the SESP, and oversee the local and regional project teams in order to successfully implement the State Energy Sector Plan. Discussion should also include the applicant's relevant systems, processes, and administrative controls that will enable it to comply with Federal rules and regulations related to the grant's fiscal and administrative requirements as well as its performance management requirements. (5 points)

4. Implementation Timeline and Projected Outcomes (20 Points)

A. Implementation Timeline

Applicants must prepare a 1-2 page Implementation Timeline for the period of performance. These pages count toward the 30-page limitation for the technical proposal. The Implementation Timeline must include estimated timeframes for the start dates and completion dates of key grant activities and deliverables, if applicable. A brief description of each deliverable (such as curricula or outreach materials), should be included, as well as the anticipated method for electronic delivery to ETA. Electronic delivery may include e-mail for smaller documents, DVDs or other electronic media for transmission of larger files. (5 points)

B. Projected Outcomes

Applicants must demonstrate a results-oriented approach to managing and operating their project by fully describing the proposed outcome data measures. Applicants must also demonstrate projected outcomes, to be used as baseline numbers for tracking progress in several categories related to training; and the methods proposed to collect and validate outcome data in a timely and accurate manner. Points will be awarded based on the following factors: (1) The extent to which the expected project outcomes are clearly identified and measurable, realistic and consistent with the objectives of the project and the needs of the regional economy; (2) the applicant's ability to achieve the stated outcomes and report results within the timeframe of the grant; and (3) the appropriateness of the outcomes with respect to the requested level of funding.

i. Applicants must explain their process to collect, verify, and manage participant data from each of the local and regional project teams, in order to allow the State to submit aggregate data to DOL on a quarterly basis. (5 points)

ii. Projected Performance Outcomes (10 points)

Applicants must provide projections and track outcomes for each of the following outcome categories for all participants served with grant funds:

• Total participants served;

• Total number of participants beginning education/training activities;

• Total number of participants completing education/training activities;

• Total number of participants that complete education/training activities that receive a degree or certificate;

• Total number of participants that complete education/training activities that are placed into unsubsidized employment;

• Total number of participants that complete education/training activities that are placed into training-related unsubsidized employment; and

• Total number of participants placed in unsubsidized employment who retain an employed status at the first and second quarters following initial placement.

Please note that applicants will need to be prepared to collect participant-level data on individuals who receive training and other services provided through the grant. These data should be the basis for reporting against the outcomes listed above, and may be required for reporting on other employment-related outcomes in the future. ETA will provide appropriate technical assistance to the grantees in collecting these data, including the development of a participant tracking system for the grantees. Please note that in some cases, the data requested below may require appropriate partnerships with state and local workforce investment system entities.

Applicants will be required to collect participants' social security numbers as part of individual level data collection. Social security numbers will be used for the calculation of employment history and program outcomes. It is anticipated that by collecting social security numbers of participants, ETA will be able to calculate most employment outcomes administratively through the use of Unemployment Insurance wage record information. Applicants must ensure that social security numbers will be maintained in a secure and confidential manner.

Applicants should be prepared to collect and report participant-level data from the following categories:

• Demographic and socioeconomic characteristics

• Employment history

• Services provided

• Outcomes achieved

5. Suitability for Evaluation (5 points)

Under this Solicitation, the Department of Labor seeks to support programs that will provide training that improves participants' employment outcomes. The Department is committed to evaluating program results to assess whether programs meet this goal and which models are most effective, providing a basis for future program improvements and funding decisions. The Department intends to select some portion of grantees to participate in a rigorous evaluation. This section asks for evidence that applicants will be able to participate productively in an evaluation. To receive points under this section, applicants must describe their plans for meeting the following criteria. Specifically, the project must:

• Explain a recruitment plan that could yield a large number of qualified applicants for the program, and potentially more applicants than the number of positions available;

• Be able to collect participant-level information on individuals who apply to participate in the program;

• Have project retention strategies to minimize client attrition and help researchers track those who leave the program before completion;

• Work collaboratively with an outside evaluator selected by the Department of Labor;

• Be willing to work with academics who are independent researchers qualified to conduct rigorous research; and,

• Provide additional information about why funding this proposal will enhance knowledge about effective programs in a way that has the potential to benefit individuals and communities not directly served by the program.

B. Review and Selection Process

Applications for grants under this SGA will be accepted after the publication of this announcement and until the closing date. A technical review panel will make a careful evaluation of applications against the selection criteria. The selection criteria are based on the policy goals, priorities, and emphases set forth in this SGA. Up to 100 points may be awarded to an application, depending on the quality of the responses to the required information described in section V.A. The ranked scores will serve as the primary basis for selection of applications for funding, in conjunction with other factors such as geographic balance; balance across the energy efficiency and renewable energy industries; representation among communities impacted by automotive industry restructuring the availability of funds and which proposals are most advantageous to the government. The panel results are advisory in nature and not binding on the Grant Officer, and the Grant Officer may consider any information that comes to his/her attention. The government may elect to award the grant(s) with or without discussions with the applicants. Should a grant be awarded without discussions, the award will be based on the applicant's signature on the SF 424, which constitutes a binding offer by the applicant including electronic signature via E-Authentication on http://www.grants.gov.

VI. Award Administration Information

A. Award Notices

All award notifications will be posted on the ETA Homepage (http://www.doleta.gov). Applicants selected for award will be contacted directly before the grant's execution and non-selected applicants will be notified by mail. Selection of an organization as a grantee does not constitute approval of the grant application as submitted. Before the actual grant is awarded, the Department may enter into negotiations about such items as program components, staffing and funding levels, and administrative systems in place to support grant implementation. If the negotiations do not result in a mutually acceptable submission, the Grant Officer reserves the right to terminate the negotiation and decline to fund the application.

B. Administrative and National Policy Requirements

1. Administrative Program Requirements

All grantees will be subject to all applicable Federal laws, regulations, and the applicable OMB Circulars. The grant(s) awarded under this SGA will be subject to the following administrative standards and provisions:

i. Non-Profit Organizations—OMB Circulars A-122 (Cost Principles) and 29 CFR part 95 (Administrative Requirements).

ii. Educational Institutions—OMB Circulars A-21 (Cost Principles) and 29 CFR part 95 (Administrative Requirements).

iii. State and Local Governments—OMB Circulars A-87 (Cost Principles) and 29 CFR part 97 (Administrative Requirements).

iv. Profit Making Commercial Firms—Federal Acquisition Regulation (FAR)—48 CFR part 31 (Cost Principles), and 29 CFR Part 95 (Administrative Requirements).

v. All entities must comply with 29 CFR Parts 93 and 98, and, where applicable, 29 CFR parts 96 and 99.

vi. 29 CFR part 2, subpart D—Equal Treatment in Department of Labor Programs for Religious Organizations, Protection of Religious Liberty of Department of Labor Social Service Providers and Beneficiaries.

vii. 29 CFR part 31—Nondiscrimination in Federally Assisted Programs of the Department of Labor—Effectuation of Title VI of the Civil Rights Act of 1964.

viii. 29 CFR part 32—Nondiscrimination on the Basis of Handicap in Programs and Activities Receiving or Benefiting from Federal Financial Assistance.

iv. 29 CFR part 33—Enforcement of Nondiscrimination on the Basis of Handicap in Programs or Activities Conducted by the Department of Labor.

x. 29 CFR part 35— Nondiscrimination on the Basis of Age in Programs or Activities Receiving Federal Financial Assistance from the Department of Labor.

xi. 29 CFR part 36—Nondiscrimination on the Basis of Sex in Education Programs or Activities Receiving Federal Financial Assistance.

The following administrative standards and provisions may be applicable:

i. The American Recovery and Reinvestment Act of 2009, Public Law 111-5, 123 Stat. 115, Division A, Title VIII (February 17, 2009).

ii. The Green Jobs Act of 2007, Public Law 110-140, 121 Stat. 1748 (codified at 29 U.S.C. 2916).

iii. The Workforce Investment Act of 1998, Public Law 105-220, 112 Stat. 939 (codified as amended at 29 U.S.C. 2801 et seq.) and 20 CFR part 667 (General Fiscal and Administrative Rules).

iv. 29 CFR part 29 and 30—Apprenticeship and Equal Employment Opportunity in Apprenticeship and Training; and

v. 29 CFR Part 37—Implementation of the Nondiscrimination and Equal Opportunity Provisions of the Workforce Investment Act of 1998.

• The Department notes that the Religious Freedom Restoration Act (RFRA), 42 U.S.C. 2000bb, applies to all Federal law and its implementation. If your organization is a faith-based organization that makes hiring decisions on the basis of religious belief, it may be entitled to receive Federal financial assistance under Title I of the Workforce Investment Act and maintain that hiring practice even though section 188 of the Workforce Investment Act contains a general ban on religious discrimination in employment. If you are awarded a grant, you will be provided with information on how to request such an exemption.

vi. Under WIA section 181(a)(4), health and safety standards established under Federal and State law otherwise applicable to working conditions of employees are equally applicable to working conditions of participants engaged in training and other activities. Applicants that are awarded grants through this SGA are reminded that these health and safety standards apply to participants in these grants.

In accordance with section 18 of the Lobbying Disclosure Act of 1995 (Pub. L. 104-65) (2 U.S.C. 1611) non-profit entities incorporated under Internal Revenue Service Code section 501(c)(4) that engage in lobbying activities are not eligible to receive Federal funds and grants. Except as specifically provided in this SGA, ETA's acceptance of a proposal and an award of Federal funds to sponsor any programs(s) does not provide a waiver of any grant requirements and/or procedures. For example, the OMB Circulars require that an entity's procurement procedures must ensure that all procurement transactions are conducted, as much as practical, to provide open and free competition. If a proposal identifies a specific entity to provide services, ETA's award does not provide the justification or basis to sole source the procurement, i.e., avoid competition, unless the activity is regarded as the primary work of an official partner to the application.

2. Special Program Requirements

i. Evaluation

To measure the impact of grants funded under the SGA, ETA intends to fund one or more independent evaluations, which could include a random-assignment impact evaluation. By accepting funding, grantees must agree to participate in such an evaluation, should their site(s) be selected to participate. Grantees must agree to make records on participants, employers, and funding available and to provide access to program personnel and participants, as specified by the evaluator(s) under the direction of ETA, including after the expiration date of the grant.

ii. Sustainability

Grantees must allow adequate time during the period of performance to conduct sustainability planning that involves the public workforce system and other key partners, where appropriate, to help ensure that their strategic partnership(s) and core training, placement, and retention activities, or labor market information and exchange activities, are sustained after the grant ends. Grantees will be required to submit a written sustainability plan to ETA prior to the end of the grant. Grantees are reminded that the expenditure of any grant funds on activities related to sustainability and sustainability planning must be consistent with the grantees' statement of work, and in accordance with all relevant rules and regulations that apply to their grants. When expending grant funds on activities related to sustainability and sustainability planning, grantees are reminded that they must adhere to Federal rules and regulations on outreach, fundraising, lobbying, and all other relevant and applicable rules and regulations.

iii. Definition of Certificate

Definition of Certificate: A certificate is awarded in recognition of an individual's attainment of measurable technical or occupational skills necessary to gain employment or advance within an occupation. These technical or occupational skills are based on standards developed or endorsed by employers.

Certificates awarded by workforce investment boards are not included in this definition. Work readiness certificates are also not included in this definition. A certificate is awarded in recognition of an individual's attainment of technical or occupational skills by:

• A State educational agency or a State agency responsible for administering vocational and technical education within a State.

• An institution of higher education described in section 102 of the Higher Education Act (20 U.S.C. 1002) that is qualified to participate in the student financial assistance programs authorized by Title IV of that Act. This includes community colleges, proprietary schools, and all other institutions of higher education that are eligible to participate in Federal student financial aid programs.

• A professional, industry, or employer organization (e.g., National Institute for Automotive Service Excellence certification, National Institute for Metalworking Skills, Inc., Machining Level I credential) or a product manufacturer or developer (e.g., Microsoft Certified Database Administrator, Certified Novell Engineer, Sun Certified Java Programmer) using a valid and reliable assessment of an individual's knowledge, skills, and abilities.

• A registered apprenticeship program.

• A public regulatory agency, upon an individual's fulfillment of educational, work experience, or skill requirements that are legally necessary for an individual to use an occupational or professional title or to practice an occupation or profession (e.g., FAA aviation mechanic certification, State certified asbestos inspector).

• A program that has been approved by the Department of Veterans Affairs to offer education benefits to veterans and other eligible persons.

• Job Corps centers that issue certificates.

• An institution of higher education which is formally controlled, or has been formally sanctioned, or chartered, by the governing body of an Indian tribe or tribes.

iv. Definitions of Populations and Other Key Terms: Organizations submitting an application in response to this SGA should use the following definitions for any of the following populations and/or other key terms that are specifically identified in this SGA:

• Disadvantaged individuals within areas of high poverty: For the purposes of this SGA, disadvantaged individuals are defined as individuals who live in areas where the poverty rate is 15% or greater and who demonstrate that they could benefit from skill training that will help them enter or advance in the energy efficiency and renewable energy industries identified in WIA section 171(e)(1)(B)(ii), and/or will enable them to acquire or enhance skills needed to enter occupations within one or more of the “growth, enhanced, and emerging” green industries referenced in Supplementary Information, section B of the summary section of this SGA.

• High school drop-outs: For the purposes of this SGA, ETA defines “high school drop-out” as an individual who is no longer attending any secondary school and who has not received a secondary school diploma or its recognized equivalent.

• Individuals in need of updated training related to the energy efficiency and renewable energy industries: For the purposes of this SGA, this term refers to individuals who are currently employed; or were terminated or laid-off or have received a notice of termination or lay-off from employment; or were self-employed but are now unemployed; and can benefit from training that will help them enter or advance in the energy efficiency and renewable energy industries identified in WIA section 171(e)(1)(B)(ii), and/or will enable them to acquire or enhance skills needed to enter occupations within one or more of the “growth, enhanced, and emerging” green industries referenced in Supplementary Information, section B of this SGA.

• Individuals, including at-risk youth, seeking employment pathways out of poverty and into economic self-sufficiency: For the purposes of this SGA, ETA defines this term as individuals who reside in high poverty areas, which are areas where the poverty rate is 15% or greater, who demonstrate that they could benefit from skill training that will help them enter or advance in the energy efficiency and renewable energy industries identified in WIA section 171(e)(1)(B)(ii), and/or will enable them to acquire or enhance skills needed to enter occupations within one or more of the “growth, enhanced, and emerging” green industries referenced in Supplementary Information, section B of this SGA.

• Individuals with a criminal record: For the purposes of this SGA, ETA defines this term as an individual who is or has been subject to any stage of the juvenile or criminal justice process, for whom services under this Act may be beneficial; or who requires assistance in overcoming artificial barriers to employment resulting from a record of arrest or conviction. ETA includes individuals with a juvenile or criminal record in the definition for this term.

• Unemployed individuals: For the purposes of this SGA, ETA defines “unemployed individual” as an individual who is without a job and who wants and is available to work.

• Veterans: For the purposes of this solicitation, ETA follows the WIA definition of veteran under 29 U.S.C. 2801(49)(A), which defines the term “veteran” as “an individual who served in the active military, naval, or air service, and who was discharged or released from such service under conditions other than dishonorable.” Active military service includes full-time duty (other than full-time duty for training purposes) in Reserve components ordered to active duty, or in National Guard units called to Federal Service by the President.

• Workers impacted by national energy and environmental policy: For the purposes of this SGA, ETA defines this term as individuals who: (1) Are currently employed in an occupation in the utilities; transportation and warehousing; manufacturing; construction; mining, quarrying, and oil and gas extraction; or other sectors that have been adversely affected by national energy and environmental policies; and have received a notice of termination or lay-off from employment; or (2) were employed in an occupation in the utilities; transportation and warehousing; manufacturing; construction; mining, quarrying, and oil and gas extraction; or other sectors that have been adversely affected by national energy and environmental policies; and are now unemployed.

• National labor-management organization: A national labor-management organization is a nonprofit entity, such as a training fund, training trust fund, or an education trust fund, with joint participation of employers and labor organizations on its executive board or comparable governing body. This entity must have a formalized agreement between the employer(s) and labor organization(s) to operate a joint labor management training program(s) in multiple sites across the country through the state, local, or regional networks affiliated with the nonprofit entity.

• U.S. territories: For the purposes of this SGA, the term “U.S. territories” includes the Commonwealth of Puerto Rico, as well as the following outlying areas: The United States Virgin Islands, Guam, American Samoa, the Commonwealth of the Northern Mariana Islands, the Republic of the Marshall Islands, the Federated States of Micronesia, and the Republic of Palau.

3. American Recovery and Reinvestment Act of 2009 (Pub. L. 111-5) Provisions

Prospective applicants are advised that, if they receive an award, they must comply with all requirements of the American Recovery and Reinvestment Act of 2009 [Pub. L 111-5]. Applicants are advised to review the Act and implementing OMB guidance in the development of their proposals. Requirements include, but are not limited to:

i. Adherence to all grant clauses and conditions as they relate to Recovery Act activity.

ii. Prohibition on expenditure of funds for activities at any casino or other gambling establishment, aquarium, zoo, golf course or swimming pool.

iii. Compliance with the requirements to obtain a DUNS number and register with the Central Contractor Registry (CCR). ETA will issue additional guidance related to this requirement shortly.

iv. Submission of required reports in accordance with section 1512 of the Recovery Act. These reports will be due quarterly within 10 days of the end of the reporting period and are in addition to the ETA required reports addressed in section VI.C. of this SGA. ETA will issue additional guidance related to these reports and their submission requirements shortly. Implementing OMB guidance may be found at http://www.recovery.gov.

C. Reporting

Quarterly financial reports, quarterly progress reports, and MIS data will be submitted by the grantee electronically. The grantee is required to provide the reports and documents listed below:

1. Quarterly Financial Reports. A Quarterly Financial Status Report (ETA 9130) is required until such time as all funds have been expended or the grant period has expired. Quarterly reports are due 45 days after the end of each calendar year quarter. Grantees must use DOL's On-Line Electronic Reporting System and information and instructions will be provided to grantees.

2. Quarterly Performance Reports. The grantee must submit a quarterly progress report within 45 days after the end of each calendar year quarter. In order to submit these quarterly reports, grantees will be expected to track participant-level data regarding the individuals that are involved in training and other services provided through the grant and report on participant status in a variety of fields and outcome categories, as well as provide narrative information on the status of the grant. The last quarterly report that grantees submit will serve as the grant's Final Performance Report. This report should provide both quarterly and cumulative information on the grant's activities. It must summarize project activities, employment outcomes and other deliverables, and related results of the project, and should thoroughly document the training or labor market information approaches utilized by the grantee. DOL will provide grantees with formal guidance regarding data and other information that is required to be collected and reported on either a regular basis or special request basis. Grantees must agree to meet DOL reporting requirements.

3. Record Retention. Applicants should be aware of Federal guidelines on record retention, which require grantees to maintain all records pertaining to grant activities for a period of not less than three years from the time of final grant close-out.

VII. Agency Contacts

For further information regarding this SGA, please contact Jeanette Flowers, Grant Management Specialist, Division of Federal Assistance, at (202) 693-3322 (this is not a toll-free number). Applicants should e-mail all technical questions to Flowers.Jeanette@dol.gov and must specifically reference SGA/DFA PY 08-20, and along with question(s), include a contact name, fax and phone number.This announcement is being made available on the ETA Web site at http://www.doleta.gov/grants and at http://www.grants.gov.

VIII. Additional Resources of Interest to Applicants

A. Other Web-Based Resources

DOL maintains a number of web-based resources that may be of assistance to applicants. America's Service Locator (http://www.servicelocator.org) provides a directory of our nation's One Stop Career Centers.

B. Industry Competency Models

ETA supports an Industry Competency Model Initiative to promote an understanding of the skill sets and competencies that are essential to an educated and skilled workforce. A competency model is a collection of competencies that taken together define successful performance in a particular work setting. Competency models serve as a starting point for the design and implementation of workforce and talent development programs. To learn about the industry-validated models visit the Competency Model Clearinghouse (CMC) at http://www.careeronestop.org/CompetencyModel/. The CMC site also provides tools to build or customize industry models, as well as tools to build career ladders and/or lattices leading to career pathways.

C. Federal Collaboration

DOL encourages other Federal partners to recommend or require, where appropriate, that organizations receiving Recovery Act funding list jobs created with their State public labor exchange. The Department is developing specific strategies to link job listings, training opportunities and placement among programs funded by Departments of Housing and Urban Development, Energy, Transportation, Education, and the Environmental Protection Agency. Where the grantee is not the public workforce system, they are strongly encouraged to work with the local One Stop Career Center to make these connections.

D. Links to Federal Recovery Sites

For specific information on a range of Federal agency Recovery Act activities and funding opportunities, please access the following Web sites:

• Department of Education: http://www.ed.gov/policy/gen/leg/recovery/index.html.

• Department of Energy: http://www.doe.gov/recovery.

• Department of Housing and Urban Development: http://www.hud.gov/recovery.

• Department of Transportation: http://www.dot.gov/recovery/.

• Environmental Protection Agency: www.epa.gov/recovery.

E. Promising Training Approaches

ETA encourages applicants to research promising training approaches in order to inform their proposals. The following list of Web sites provides a starting place for this research, but by no means should be considered a complete list:

• ETA's home site (http://www.doleta.gov) and the ETA Research Publication Database (wdr.doleta.gov/research/keyword.cfm).

• ETA's knowledge sharing site (http://www.workforce3one.org), including the “workforce solutions” section that contains over 6,000 additional resources applicants may find valuable in developing workforce strategies and solutions.

• The National Governors Association Center for Best Practices (http://www.nga.org).

• The National Association of State Workforce Agencies (http://www.workforceatm.org).

• The National Association of Workforce Boards (http://www.nawb.org).

IX. Other Information

OMB Information Collection No. 1225-0086

Expires September 30, 2009

According to the Paperwork Reduction Act of 1995, no persons are required to respond to a collection of information unless such collection displays a valid OMB control number. Public reporting burden for this collection of information is estimated to average 20 hours per response, including time for reviewing instructions, searching existing data sources, gathering and maintaining the data needed, and completing and reviewing the collection of information. Send comments regarding the burden estimated or any other aspect of this collection of information, including suggestions for reducing this burden, to the OMB Desk Officer for ETA, Department of Labor, in the Office of Management and Budget, Room 10235, Washington, DC 20503. Please do not return the completed application to the OMB. Send it to the sponsoring agency as specified in this solicitation.

This information is being collected for the purpose of awarding a grant. The information collected through this SGA will be used by DOL to ensure that grants are awarded to the applicant best suited to perform the functions of the grant. Submission of this information is required in order for the applicant to be considered for award of this grant. Unless otherwise specifically noted in this announcement, information submitted in the respondent's application is not considered to be confidential.

Signed at Washington, DC, this 19th day of June, 2009.
B. Jai Johnson,
Grant Officer, Employment and Training Administration.

Attachment I—Counties Impacted by Automotive-Related Restructuring
FIPS | County name | State
1013 | Butler | AL
1021 | Chilton | AL
1083 | Limestone | AL
1085 | Lowndes | AL
1095 | Marshall | AL
1101 | Montgomery | AL
1121 | Talladega | AL
1125 | Tuscaloosa | AL
5023 | Cleburne | AR
5041 | Desha | AR
5055 | Greene | AR
5083 | Logan | AR
6001 | Alameda | CA
10003 | New Castle | DE
13167 | Johnson | GA
13285 | Troup | GA
17007 | Boone | IL
17025 | Clay | IL
17031 | Cook | IL
17047 | Edwards | IL
17067 | Hancock | IL
17113 | McLean | IL
17121 | Marion | IL
17155 | Putnam | IL
17187 | Warren | IL
17189 | Washington | IL
17191 | Wayne | IL
18001 | Adams | IN
18003 | Allen | IN
18005 | Bartholomew | IN
18009 | Blackford | IN
18015 | Carroll | IN
18017 | Cass | IN
18025 | Crawford | IN
18031 | Decatur | IN
18033 | De Kalb | IN
18035 | Delaware | IN
18037 | Dubois | IN
18039 | Elkhart | IN
18041 | Fayette | IN
18045 | Fountain | IN
18047 | Franklin | IN
18051 | Gibson | IN
18053 | Grant | IN
18059 | Hancock | IN
18061 | Harrison | IN
18065 | Henry | IN
18067 | Howard | IN
18071 | Jackson | IN
18075 | Jay | IN
18077 | Jefferson | IN
18081 | Johnson | IN
18087 | Lagrange | IN
18093 | Lawrence | IN
18103 | Miami | IN
18107 | Montgomery | IN
18113 | Noble | IN
18123 | Perry | IN
18133 | Putnam | IN
18135 | Randolph | IN
18141 | St. Joseph | IN
18143 | Scott | IN
18147 | Spencer | IN
18149 | Starke | IN
18151 | Steuben | IN
18153 | Sullivan | IN
18157 | Tippecanoe | IN
18159 | Tipton | IN
18175 | Washington | IN
18179 | Wells | IN
18183 | Whitley | IN
19029 | Cass | IA
19037 | Chickasaw | IA
19071 | Fremont | IA
19089 | Howard | IA
19095 | Iowa | IA
19115 | Louisa | IA
19149 | Plymouth | IA
19157 | Poweshiek | IA
19175 | Union | IA
19197 | Wright | IA
20001 | Allen | KS
20209 | Wyandotte | KS
21003 | Allen | KY
21009 | Barren | KY
21017 | Bourbon | KY
21023 | Bracken | KY
21031 | Butler | KY
21033 | Caldwell | KY
21041 | Carroll | KY
21043 | Carter | KY
21055 | Crittenden | KY
21057 | Cumberland | KY
21069 | Fleming | KY
21073 | Franklin | KY
21075 | Fulton | KY
21077 | Gallatin | KY
21081 | Grant | KY
21093 | Hardin | KY
21099 | Hart | KY
21101 | Henderson | KY
21103 | Henry | KY
21107 | Hopkins | KY
21111 | Jefferson | KY
21113 | Jessamine | KY
21121 | Knox | KY
21123 | Larue | KY
21137 | Lincoln | KY
21151 | Madison | KY
21155 | Marion | KY
21167 | Mercer | KY
21169 | Metcalfe | KY
21173 | Montgomery | KY
21179 | Nelson | KY
21183 | Ohio | KY
21191 | Pendleton | KY
21199 | Pulaski | KY
21207 | Russell | KY
21209 | Scott | KY
21211 | Shelby | KY
21213 | Simpson | KY
21221 | Trigg | KY
21227 | Warren | KY
21229 | Washington | KY
22017 | Caddo | LA
26009 | Antrim | MI
26025 | Calhoun | MI
26045 | Eaton | MI
26049 | Genesee | MI
26059 | Hillsdale | MI
26063 | Huron | MI
26065 | Ingham | MI
26067 | Ionia | MI
26069 | Iosco | MI
26075 | Jackson | MI
26079 | Kalkaska | MI
26081 | Kent | MI
26087 | Lapeer | MI
26091 | Lenawee | MI
26093 | Livingston | MI
26099 | Macomb | MI
26107 | Mecosta | MI
26111 | Midland | MI
26113 | Missaukee | MI
26115 | Monroe | MI
26125 | Oakland | MI
26127 | Oceana | MI
26133 | Osceola | MI
26135 | Oscoda | MI
26139 | Ottawa | MI
26143 | Roscommon | MI
26145 | Saginaw | MI
26147 | St. Clair | MI
26149 | St. Joseph | MI
26157 | Tuscola | MI
26159 | Van Buren | MI
26161 | Washtenaw | MI
26163 | Wayne | MI
26165 | Wexford | MI
27029 | Clearwater | MN
27123 | Ramsey | MN
28009 | Benton | MS
28011 | Bolivar | MS
28051 | Holmes | MS
28089 | Madison | MS
28119 | Quitman | MS
28129 | Smith | MS
28145 | Union | MS
28161 | Yalobusha | MS
29047 | Clay | MO
29061 | Daviess | MO
29079 | Grundy | MO
29105 | Laclede | MO
29147 | Nodaway | MO
29175 | Randolph | MO
29183 | St. Charles | MO
29189 | St. Louis | MO
29229 | Wright | MO
31019 | Buffalo | NE
31047 | Dawson | NE
31051 | Dixon | NE
31141 | Platte | NE
31159 | Seward | NE
36063 | Niagara | NY
37071 | Gaston | NC
37089 | Henderson | NC
37145 | Person | NC
37165 | Scotland | NC
38051 | McIntosh | ND
39001 | Adams | OH
39011 | Auglaize | OH
39019 | Carroll | OH
39021 | Champaign | OH
39027 | Clinton | OH
39033 | Crawford | OH
39039 | Defiance | OH
39043 | Erie | OH
39051 | Fulton | OH
39063 | Hancock | OH
39065 | Hardin | OH
39069 | Henry | OH
39071 | Highland | OH
39077 | Huron | OH
39079 | Jackson | OH
39083 | Knox | OH
39091 | Logan | OH
39093 | Lorain | OH
39095 | Lucas | OH
39097 | Madison | OH
39117 | Morrow | OH
39121 | Noble | OH
39125 | Paulding | OH
39131 | Pike | OH
39135 | Preble | OH
39137 | Putnam | OH
39139 | Richland | OH
39141 | Ross | OH
39143 | Sandusky | OH
39147 | Seneca | OH
39149 | Shelby | OH
39155 | Trumbull | OH
39159 | Union | OH
39161 | Van Wert | OH
39169 | Wayne | OH
39171 | Williams | OH
39173 | Wood | OH
39175 | Wyandot | OH
40095 | Marshall | OK
42117 | Tioga | PA
45007 | Anderson | SC
45019 | Charleston | SC
45021 | Cherokee | SC
45035 | Dorchester | SC
45067 | Marion | SC
45083 | Spartanburg | SC
47001 | Anderson | TN
47003 | Bedford | TN
47007 | Bledsoe | TN
47009 | Blount | TN
47015 | Cannon | TN
47031 | Coffee | TN
47041 | DeKalb | TN
47045 | Dyer | TN
47053 | Gibson | TN
47055 | Giles | TN
47061 | Grundy | TN
47063 | Hamblen | TN
47065 | Hamilton | TN
47069 | Hardeman | TN
47073 | Hawkins | TN
47077 | Henderson | TN
47079 | Henry | TN
47087 | Jackson | TN
47097 | Lauderdale | TN
47099 | Lawrence | TN
47105 | Loudon | TN
47107 | McMinn | TN
47109 | McNairy | TN
47117 | Marshall | TN
47119 | Maury | TN
47121 | Meigs | TN
47123 | Monroe | TN
47131 | Obion | TN
47133 | Overton | TN
47135 | Perry | TN
47141 | Putnam | TN
47143 | Rhea | TN
47147 | Robertson | TN
47149 | Rutherford | TN
47151 | Scott | TN
47159 | Smith | TN
47177 | Warren | TN
47185 | White | TN
48029 | Bexar | TX
48439 | Tarrant | TX
49003 | Box Elder | UT
51023 | Botetourt | VA
51155 | Pulaski | VA
51173 | Smyth | VA
54079 | Putnam | WV
55075 | Marinette | WI

[FR Doc. E9-14922 Filed 6-23-09; 8:45 am]

BILLING CODE 4510-FN-P